DEPARTMENT OF AGRICULTURE

Submission for OMB Review; Comment Request

August 9, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Live Poultry, Poultry Meat, and Other Poultry Products from Specified Regions.

OMB Control Number: 0579-0228.

Summary of Collection: The Animal Health Protection Act (AHPA) of 2002 is the primary Federal law governing the protection of animal health. Veterinary Services of the USDA's Animal and Plant Health Inspection Service (APHIS) is responsible for administering regulations intended to prevent the introduction of animal diseases into the United States. The regulations in 9 CFR part 94 allow the importation of poultry meat and products and live poultry from Argentina and the Mexican States of Campeche, Quintana Roo, and Yucatan under certain conditions. APHIS will collect information through the use of a certification statement that must be completed by Mexican veterinary authorities prior to export and three APHIS forms VS 17-129, VS 17-29, and VS 17-30.

Need and Use of the Information: The information collected from the certificate and forms will provide APHIS with critical information concerning the origin and history of the items destined for importation in the United States. Without the information APHIS would be unable to establish an effective defense against the incursion of END from poultry and poultry products imported from Argentina and certain States within Mexico.

Description of Respondents: Federal Government; Business or other for-profit.

Number of Respondents: 25.

Frequency of Responses: Reporting: On occasion.

Total Burden Hours: 240.

Animal and Plant Health Inspection Service

Title: Highly Pathogenic Avian Influenza (HPAI) Subtype H5N1.

OMB Control Number: 0579-0245.

Summary of Collection: The Animal Health Protection Act (AHPA) of 2002 is the primary Federal law governing the protection of animal health. The law gives the Secretary of Agriculture broad authority to detect, control, or eradicate pests or diseases of livestock or poultry. The agency charged with carrying out this disease prevention mission is the Animal and Plant Health Inspection Service (APHIS), through its Veterinary Services Program. Highly pathogenic avian influenza (HPAI) is an extremely infectious and often fatal disease affecting all types of birds and poultry. To protect the United States against an incursion of HPAI, APHIS requires the use of several information collection activities, including an Application to Import Controlled Materials or Transport Organisms (VS Form 16-3); an Import permit (VS Form 16-6); and Application for Import or In-Transit permit (VS Form 17-129); a notarized declaration or affirmation; and a Pet Bird Owner Agreement (VS Form 17-8).

Need and Use of the Information: APHIS will collect information to ensure that U.S. origin pet birds, performing or theatrical birds and poultry undergo appropriate examinations before entering the United States. Without the information, it would be impossible for APHIS to establish an effective line of defense against an introduction of highly pathogenic avian influenza.

Description of Respondents: Individuals or households; Business or other for-profit; Not-for-profit institutions.

Number of Respondents: 270.

Frequency of Responses: Reporting: On occasion.

Total Burden Hours: 166.

Animal Plant and Health Inspection Service

Title: Health Certificate/Export Certificate-Animal Products.

OMB Control Number: 0579-0256.

Summary of Collection: The Animal Health Protection Act (AHPA) of 2002 is the primary Federal law governing the protection of animal health. The law gives the Secretary of Agriculture board authority to detect, control, or eradicate pests or diseases of livestock or poultry. The export of agricultural commodities, including animals and animal products, is a major business in the United States and contributes to a favorable balance of trade. To facilitate the export of U.S. animals and products, the U.S. Department of Agriculture, Animal and Plant Health Inspection Service (APHIS), Veterinary Services maintains information regarding the import health requirements of other countries for animals and animal products exported from the United States. Many countries that import animal products from the United States require a certification from APHIS that the United States is free of certain diseases. These countries may also require that our certification statement contain additional declarations regarding the U.S. animal products being exported. Form VS-16-4 and VS-16-4A, Export Certificate for Animal Products and Export Certificate for Animal Products Continuation Sheet, a Hearing Request to appeal VS' decision to refuse to grant a certificate, and a Notification of Tampered Certificate can be used to meet these requirements. Regulations pertaining to export certification of animals and animal products are contained in 9 CFR part 91.

Need and Use of the Information: Form VS 16-4 and VS 16-4A serves as the official certification that the United States is free of rinderpest, foot-and-mouth disease, classical swine fever, swine vesicular disease, African swine fever, bovine fever, bovine spongiform encephalopathy, and contagious bovine pleuropneuomia. APHIS will collect the exporter's name, address, the name and address of the consignee, the quantity, and unit of measure, type of product being exported, the exporter's identification, and type of conveyance (ship, train, and truck) that will transport the products. Without the information, many countries would not accept animal products from the United States, creating a serious trade imbalance and adversely affecting U.S. exporters.

Description of Respondents: Business or other-for-profit.

Number of Respondents: 34,652.

Frequency of Responses: Reporting: On occasion.

Total Burden Hours: 66,266.

Animal and Plant Health Inspection Service

Title: Importation of Table Eggs from Regions Where END Exists.

OMB Control Number: 0579-0328.

Summary Of Collection: The Animal Health Protection Act (AHPA) of 2002 is the primary Federal law governing the protection of animal health. The law gives the Secretary of Agriculture broad authority to detect, control, or eradicate pests or diseases of livestock or poultry. Veterinary Services, a program with the Animal and Plant Health Inspection Service (APHIS) is responsible for administering regulations intended to prevent the introduction of animal disease in the United States. Regulations in title 9, Code of Federal Regulations, section 94.6 deal specifically with the importation of table eggs from certain regions that may pose a risk of introducing Exotic Newcastle Disease (END) into the United States.

Need and Use of the Information: While this collection applies to any region where END is considered to exist, Mexico is currently the only END-affected region importing table eggs. APHIS requires the following with regard to imported table eggs: (1) A certificate for table eggs from END-affected regions; and (2) a government seal issued by the veterinarian accredited by the national government of Mexico who signed the certificate. If the information were collected less frequently or not collected at all, APHIS would be unable to establish an effective defense against the incursion of END from table eggs imported from END-affected regions. This could have serious health consequences for U.S. poultry and economic consequences for the U.S. poultry industry.

Description of Respondents: Federal Government.

Number of Respondents: 1.

Frequency of Responses: Reporting: On occasion.

Total Burden Hours: 3.

Ruth Brown,
Departmental Information Collection Clearance Officer.

[FR Doc. 2010-19970 Filed 8-12-10; 8:45 am]

BILLING CODE 3410-34-P